DEPARTMENT OF COMMERCE

National Oceanic and Atmospheric Administration

RIN 0648-XV083

North Pacific Fishery Management Council; Public Meeting

AGENCY: National Marine Fisheries Service (NMFS), National Oceanic and Atmospheric Administration (NOAA), Commerce.

ACTION: Notice of telephonic meeting.

SUMMARY: The North Pacific Fishery Management Council (Council) Social Science Planning Team will hold a teleconference on Wednesday, November 6, 2019.

DATES: The teleconference will be held on Wednesday, November 6, 2019, from 8 a.m. to 12 p.m., Alaska Standard Time.

ADDRESSES: The meeting will be held telephonically at (907) 271-2896. A web ex link will be provided on the electronic agenda at https://meetings.npfmc.org/Meeting/Details/964.

Council address: North Pacific Fishery Management Council, 605 W. 4th Ave., Suite 306, Anchorage, AK 99501-2252; telephone: (907) 271-2809.

FOR FURTHER INFORMATION CONTACT: Sam Cunningham, Council staff; telephone: (907) 271-2809.

SUPPLEMENTARY INFORMATION:

Agenda

Wednesday, November 6, 2019

Agenda topics for the teleconference include: (a) Changes to Economic Data Report framework; (b) discussion of new format for data gap analysis; (c) presentation on qualitative methods used for decision-making; (d) agenda items or next in-person meeting; and (e) other business. This meeting schedule is subject to change. The final agenda will be posted at https://meetings.npfmc.org/Meeting/Details/964

Public Comment

Public comment should be submitted either electronically to https://meetings.npfmc.org/Meeting/Details/964 or through the mail: North Pacific Fishery Management Council, 605 W. 4th Ave., Suite 306, Anchorage, AK 99501-2252.

Special Accommodations

The meeting is physically accessible to people with disabilities. Requests for sign language interpretation or other auxiliary aids should be directed to Maria Davis at (907) 271-2809 at least 7 working days prior to the meeting date.

Authority: 16 U.S.C. 1801 et seq.

Dated: September 25, 2019.
Tracey L. Thompson,
Acting Deputy Director, Office of Sustainable Fisheries, National Marine Fisheries Service.

[FR Doc. 2019-21161 Filed 9-30-19; 8:45 am]

BILLING CODE 3510-22-P